DEPARTMENT OF THE INTERIOR

National Park Service

[2253-665]

Notice of Inventory Completion for Native American Human Remains and Associated Funerary Objects From Arizona in the Possession of San Diego State University, San Diego, CA; Correction

AGENCY: National Park Service, Interior.

ACTION: Notice; correction.

Notice is here given in accordance with the Native American Graves Protection and Repatriation Act (NAGPRA), 25 U.S.C. 3003, of the completion of an inventory of human remains and associated funerary objects in the possession of San Diego State University, San Diego, CA. The human remains and cultural items were removed from the vicinity of Casa Grande and Gila Butte, AZ, and from the vicinity of Tuscon, AZ.

This notice is published as part of the National Park Service's administrative responsibilities under NAGPRA, 25 U.S.C. 3003(d)(3). The determinations in this notice are the sole responsibility of the museum, institution or Federal agency that has control of the Native American human remains and associated funerary objects. The National Park Service is not responsible for the determinations in this notice.

This notice corrects the consultation and relationship of the human remains identified in a Notice of Inventory Completion previously published in the Federal Register (65 FR 79120-79121, December 18, 2000) to include the Gila River Indian Community of the Gila River Indian Reservation, AZ, for the items removed from site SDSU-0370 (1959-2).

In the Federal Register (65 FR 79120-79121, December 18, 2000), paragraph three is corrected by substituting the following paragraph:

A detailed assessment of the human remains was made by San Diego State University professional staff in consultation with representatives of the Gila River Indian Community of the Gila River Indian Reservation, Arizona, and the Tohono O'odham Nation of Arizona.

In the Federal Register (65 FR 79120-79121, December 18, 2000), paragraph six is corrected by substituting the following paragraph:

Based on the manner of internment, these individuals have been identified as Native American. For the human remains removed from site SDSU-0370 (1959-2), geographic affiliation is consistent with the historically documented territory of the Gila River Indian Community of the Gila River Indian Reservation, Arizona; for the human remains and cultural items removed from site SDSU-0371 (19701-10), geographic affiliation is consistent with the historically documented territory of the Tohono O'odham Nation of Arizona.

In the Federal Register (65 FR 79120-79121, December 18, 2000), paragraph seven is corrected by substituting the following paragraph:

Determinations Made by the San Diego State University

Officials of San Diego State University have determined that:

• Pursuant to 25 U.S.C. 3001(9), the human remains listed above represent the physical remains of two individuals of Native American ancestry.

• Pursuant to 25 U.S.C. 3001(3)(A), the two objects listed above are reasonably believed to have been placed with or near individual human remains at the time of death or later as part of the death rite or ceremony.

• Pursuant to 25 U.S.C. 3001(2), there is a relationship of shared group identity that can be reasonably traced between the Native American human remains and the associated funerary objects and the Gila River Indian Community of the Gila River Indian Reservation, Arizona, and the Tohono O'odham Nation of Arizona.

Representatives of any other Indian tribe that believes itself to be culturally affiliated with the human remains and associated funerary objects should contact Jaime Lennox, San Diego State University, Archeology Collections Management Program, 5500 Campanile Dr., San Diego, CA 92128-7010, telephone (619) 594-4575 before March 28, 2012. Repatriation of the human remains and associated funerary objects specified above to the Gila River Indian Community of the Gila River Indian Reservation, Arizona, and the Tohono O'odham Nation of Arizona may proceed after that date if no additional claimants come forward.

San Diego State University is responsible for notifying the Gila River Indian Community of the Gila River Indian Reservation, Arizona, and the Tohono O'odham Nation of Arizona that this notice has been published.

Dated: February 22, 2012.
Sherry Hutt,
Manager, National NAGPRA Program.

[FR Doc. 2012-4538 Filed 2-24-12; 8:45 am]

BILLING CODE 4312-50-P